DEPARTMENT OF TRANSPORTATION

Federal Aviation Administration

14 CFR Part 39

[Docket No. FAA-2014-0465; Directorate Identifier 2013-SW-044-AD; Amendment 39-18089; AD 2015-02-21]

RIN 2120-AA64

Airworthiness Directives; Agusta S.p.A. (Type Certificate Currently Held by AgustaWestland S.p.A.) (Agusta) Helicopters

AGENCY: Federal Aviation Administration (FAA), DOT.

ACTION: Final rule.

SUMMARY: We are adopting a new airworthiness directive (AD) for Agusta AB139 and AW139 helicopters to require replacing certain single-braided flexible hydraulic hoses with double-braided flexible hydraulic hoses. This AD was prompted by occurrences of leaking flexible hydraulic hoses. The actions of this AD are intended to prevent loss of hydraulic power and subsequent loss of helicopter control.

DATES: This AD is effective March 17, 2015.

The Director of the Federal Register approved the incorporation by reference of a certain document listed in this AD as of March 17, 2015.

ADDRESSES: For service information identified in this AD, contact Agusta Westland, Customer Support & Services, Via Per Tornavento 15, 21019 Somma Lombardo (VA) Italy, ATTN: Giovanni Cecchelli; telephone 39- 0331-711133; fax 39 0331 711180; or at http://www.agustawestland.com/technical-bullettins. You may review the referenced service information at the FAA, Office of the Regional Counsel, Southwest Region, 2601 Meacham Blvd., Room 663, Fort Worth, Texas 76137. It is also available on the Internet at http://www.regulations.gov by searching for and locating Docket No. FAA-2014-0465.

Examining the AD Docket

You may examine the AD docket on the Internet at http://www.regulations.gov or in person at the Docket Operations Office between 9 a.m. and 5 p.m., Monday through Friday, except Federal holidays. The AD docket contains this AD, the European Aviation Safety Agency (EASA) AD, any incorporated-by-reference service information, the economic evaluation, any comments received, and other information. The street address for the Docket Operations Office (phone: 800-647-5527) is U.S. Department of Transportation, Docket Operations Office, M-30, West Building Ground Floor, Room W12-140, 1200 New Jersey Avenue SE., Washington, DC 20590.

FOR FURTHER INFORMATION CONTACT: Matt Wilbanks, Aviation Safety Engineer, Regulations and Policy Group, Rotorcraft Directorate, FAA, 2601 Meacham Blvd., Fort Worth, Texas 76137; telephone (817) 222-5110; email matt.wilbanks@faa.gov.

SUPPLEMENTARY INFORMATION:

Discussion

On July 16, 2014, at 79 FR 41464, the Federal Register published our notice of proposed rulemaking (NPRM), which proposed to amend 14 CFR part 39 by adding an AD that would apply to Agusta Model AB139 and AW139 helicopters with a flexible hydraulic hose, part number (P/N) A494AE2E00E0670X, A494AE3E00E0424X, A494AE3E00E0530X, A494AE3E00E0570X, A494AE3E00E0580X, A494AE3E00E0620X, A494AE3E00E0930X, A494AE6E14E0348X, or A494AE6E21E0330X, installed. The NPRM proposed to require replacing these single-braided flexible hydraulic hoses with double-braided flexible hydraulic hoses. The proposed requirements were intended to prevent loss of hydraulic power and subsequent loss of helicopter control.

The NPRM was prompted by AD No. AD No. 2013-0177, dated August 8, 2013, issued by EASA, which is the Technical Agent for the Member States of the European Union, to correct an unsafe condition for Agusta Model AB139 and AW139 helicopters. EASA advises that leaking hydraulic system flexible hoses have been reported on in-service helicopters. An investigation indicated that single braided flexible hydraulic hoses, which are part of the original design for Model AB139 and AW139 helicopters, may not be strong enough to cope with the hydraulic system pressure over long periods. If not corrected, this condition could lead to other hydraulic system leaks, possibly resulting in loss of hydraulic power and reduced control of the helicopter, EASA advises. EASA consequently requires that the flexible single-braided hydraulic hoses be replaced with flexible double-braided hydraulic hoses.

Comments

We gave the public the opportunity to participate in developing this AD, but we received no comments on the NPRM (79 FR 41464, July 16, 2014).

FAA's Determination

These helicopters have been approved by the aviation authority of Italy and are approved for operation in the United States. Pursuant to our bilateral agreement with Italy, EASA, its technical representative, has notified us of the unsafe condition described in the EASA AD. We are issuing this AD because we evaluated all information provided by EASA and determined the unsafe condition exists and is likely to exist or develop on other helicopters of these same type designs and that air safety and the public interest require adopting the AD requirements as proposed.

Differences Between This AD and the EASA AD

The EASA AD requires replacing the flexible single-braided hydraulic hoses within 300 flight hours or 6 months, whichever occurs first. This AD requires that the flexible single-braided hydraulic hoses be replaced within 300 hours time-in-service (TIS). TIS and flight hours are synonymous.

Related Service Information Under 1 CFR Part 51

AgustaWestland Bolletino Tecnico No. 139-307, dated June 19, 2013 (BT), calls for replacing certain single braided flexible hydraulic hoses with double braided flexible hydraulic hoses for Model AB139 and AW139 helicopters. The BT states that the replacement should be conducted within 300 flight hours or six months from receipt of the BT, whichever comes first, to prevent in-service leaks. This service information is reasonably available; see ADDRESSES for ways to access this service information.

Costs of Compliance

We estimate that this AD affects 115 helicopters of U.S. Registry and that labor costs average $85 per work-hour. Based on these estimates, we expect that replacing the flexible single-braided hydraulic hoses with flexible double-braided hydraulic flexible hoses will require 6 work-hours for a labor cost of $510. Parts cost $3,089 for a total cost of $3,599 per helicopter, and $413,885 for the U.S. fleet.

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on helicopters identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979);

(3) Will not affect intrastate aviation in Alaska to the extent that it justifies making a regulatory distinction; and

(4) Will not have a significant economic impact, positive or negative, on a substantial number of small entities under the criteria of the Regulatory Flexibility Act.

We prepared an economic evaluation of the estimated costs to comply with this AD and placed it in the AD docket.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2015-02-21 Agusta S.p.A. (Type certificate currently held by AgustaWestland S.p.A.) (Agusta) Helicopters: Amendment 39-18089; Docket No. FAA-2014-0465; Directorate Identifier 2013-SW-044-AD.

(a) Applicability

This AD applies to Agusta Model AB139 and AW139 helicopters with a flexible hydraulic hose, part number (P/N) A494AE2E00E0670X, A494AE3E00E0424X, A494AE3E00E0530X, A494AE3E00E0570X, A494AE3E00E0580X, A494AE3E00E0620X, A494AE3E00E0930X, A494AE6E14E0348X, or A494AE6E21E0330X, installed, certificated in any category.

(b) Unsafe Condition

This AD defines the unsafe condition as a leak in a hydraulic system flexible hose. This condition could result in loss of hydraulic power and subsequent loss of helicopter control.

(c) Effective Date

This AD becomes effective March 17, 2015.

(d) Compliance

You are responsible for performing each action required by this AD within the specified compliance time unless it has already been accomplished prior to that time.

(e) Required Actions

(1) Within 300 hours time-in-service, replace each flexible hydraulic hose with a double braided flexible hydraulic hose in accordance with the Compliance Instructions, Part I, paragraphs 5 through 7; Part II, paragraphs 5 through 7; Part III, paragraphs 5 through 6; Part IV, paragraphs 5 through 6; and Part V, paragraphs 5 through 7; as applicable for your helicopter serial number and configuration, of AgustaWestland Bolletino Tecnico No. 139-307, dated June 19, 2013.

(2) Do not install a flexible hydraulic hose, P/N A494AE2E00E0670X, A494AE3E00E0424X, A494AE3E00E0530X, A494AE3E00E0570X, A494AE3E00E0580X, A494AE3E00E0620X, A494AE3E00E0930X, A494AE6E14E0348X, or A494AE6E21E0330X, on any helicopter.

(f) Alternative Methods of Compliance (AMOCs)

(1) The Manager, Safety Management Group, FAA, may approve AMOCs for this AD. Send your proposal to: Matt Wilbanks, Aviation Safety Engineer, Regulations and Policy Group, Rotorcraft Directorate, FAA, 2601 Meacham Blvd., Fort Worth, Texas 76137; telephone (817) 222-5110; email matt.wilbanks@faa.gov.

(2) For operations conducted under a 14 CFR part 119 operating certificate or under 14 CFR part 91, subpart K, we suggest that you notify your principal inspector, or lacking a principal inspector, the manager of the local flight standards district office or certificate holding district office, before operating any aircraft complying with this AD through an AMOC.

(g) Additional Information

The subject of this AD is addressed in European Aviation Safety Agency (EASA) AD No. 2013-0177, dated August 8, 2013. You may view the EASA AD on the Internet at http://www.regulations.gov in Docket No. FAA-2014-0465.

(h) Subject

Joint Aircraft Service Component (JASC) Code: 2910, Hydraulic System, Main.

(i) Material Incorporated by Reference

(1) The Director of the Federal Register approved the incorporation by reference of the service information listed in this paragraph under 5 U.S.C. 552(a) and 1 CFR part 51.

(2) You must use this service information as applicable to do the actions required by this AD, unless the AD specifies otherwise.

(i) AgustaWestland Bolletino Tecnico No. 139-307, dated June 19, 2013.

(ii) Reserved.

(3) For Agusta service information identified in this AD, contact Agusta Westland, Customer Support & Services, Via Per Tornavento 15, 21019 Somma Lombardo (VA) Italy, ATTN: Giovanni Cecchelli; telephone 39- 0331-711133; fax 39 0331 711180; or at http://www.agustawestland.com/technical-bullettins.

(4) You may view this service information at FAA, Office of the Regional Counsel, Southwest Region, 2601 Meacham Blvd., Room 663, Fort Worth, Texas 76137. For information on the availability of this material at the FAA, call (817) 222-5110.

(5) You may view this service information that is incorporated by reference at the National Archives and Records Administration (NARA). For information on the availability of this material at NARA, call (202) 741-6030, or go to: http://www.archives.gov/federal-register/cfr/ibr-locations.html.

Issued in Fort Worth, Texas, on January 16, 2015.
Lance T. Gant,
Acting Directorate Manager, Rotorcraft Directorate, Aircraft Certification Service.

[FR Doc. 2015-01809 Filed 2-9-15; 8:45 am]

BILLING CODE 4910-13-P